FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel-Operating Common Carrier Ocean Transportation Intermediary Applicants:

Waterview Logistics LLC, 2948 Shore Drive, Merrick, NY 11566. Officers: Thomas Leibman, Managing Member (Qualifying Individual), Joshua Liebman, Member.

Acher and Chex International, LLC dba A & C International, 123 Polaris Drive, Walkersville, MD 21793. Officer: Nchekwube O. Udeze, President (Qualifying Individual).

Oceanbridge Logistics, Inc., 9080 Telstar Ave., Ste. 329, El Monte, CA 91731. Officers: Xinyu Aka Mike Chen, President (Qualifying Individual), Ying Chen, Secretary.

WWT America LLC, 730 Del Oro Drive, Safety Harbor, FL 34695. Officer: Carlos F. Diaz, Member (Qualifying Individual).

Expedia Shippers & Logistics, Inc., 331 West 57th Street, Ste. 270, New York, NY 10019. Officer: Carlito Deleon, President (Qualifying Individual).

Non-Vessel-Operating Common Carrier and Ocean Freight Forwarder Transportation Intermediary Applicants:

Continental Shipping Group, Inc., 670 S. 21st Street, Irvington, NJ 07111. Officer: Katarzyna Strojwas, Vice President (Qualifying Individual).

RLE International, Inc., 10101 Easy Bay Harbor Drive, Ste. 608, Bay Harbor, FL 33154. Officers: Ligia Estrada, President (Qualifying Individual), Rene J. Perez, Vice President.

Beagle Shipping Inc., 2801 Northwest 74th Ave., Ste. N-12, Miami, FL 33122. Officers: Marilyn Gutierrez, Corporate Secretary (Qualifying Individual), Ricardo J. Tovar, President.

Above & Beyond Freight Management, LLC, 600 Bayview Ave., Inwood, NY 11096. Officers: Patricia E. Noll, COO (Qualifying Individual), Andrew Redman, CEO.

New York Logistic Services, Inc., dba Global American Line, 3470 Rand Road, South Plainfield, NJ 07080. Officers: Ali Wajid, Sr. Vice President, Hussaini Syed Hamid, CEO, Maati Mohamed Abouel, President (Qualifying Individuals).

Ocean Freight Forwarder—Ocean Transportation Intermediary Applicants:

CJ GLS America, Inc., 5801 S. Malt Ave., Commerce, CA 90040. Officer: Shung Chul Jhun, Secretary (Qualifying Individual), Choon W. Leem, Chairman.

Streamline Logistics Limited Liability Company, 2025 E. Linden Ave., Linden, NJ 07035. Officer: Damian C. Mbadugha, Member (Qualifying Individual).

Falcon Global Edge, Inc., 88 Black Falcon Ave., Ste. 315, Boston, MA 02210. Officer: Gary Erickson, Dir. Of Marine Operations (Qualifying Individual).

Dated: September 3, 2009.
Tanga S. FitzGibbon,
Assistant Secretary.

[FR Doc. E9-21683 Filed 9-8-09; 8:45 am]

BILLING CODE 6730-01-P